DEPARTMENT OF THE INTERIOR

Bureau of Land Management

[WY-040-1320-EL, WYW160394]

Notice of Availability of the Pit 14 Coal Lease-By-Application Final Environmental Impact Statement, Wyoming

AGENCY: Bureau of Land Management, Interior.

ACTION: Notice of availability.

SUMMARY: Under the provisions of the National Environmental Policy Act (NEPA), the Bureau of Land Management (BLM) announces the availability of the Pit 14 Coal Lease By Application (LBA) FEIS. The tract is being considered for sale as a result of coal lease application received from Black Butte Coal Company (BBCC) operating the adjacent mine in southwestern Wyoming.

DATES: The FEIS will be available for a 30 calendar-day review period effective the date that the Environmental Protection Agency (EPA) publishes their Notice of Availability (NOA) of the FEIS in the Federal Register.

ADDRESSES: The FEIS is available at http://www.wy.blm.gov/nepa/rsfodocs/pit14 on the internet. In addition, copies are available at the following BLM offices:

• BLM-Wyoming State Office, 5353 Yellowstone Road, Cheyenne, Wyoming 82009.

• BLM-Rock Springs Field Office, 280 Highway 191 North, Rock Springs, Wyoming 82901.

Written comments may be submitted to: Bureau of Land Management, Rock Springs Field Office, Attn: Pit 14 LBA Project, 280 Highway 191 North, Rock Springs, WY 82901. The public may submit comments electronically at: Pit_14_LBA_WYMail@blm.gov. Please note that any comments submitted to this FEIS including names and street addresses of respondents will be made available for public review at the Rock Springs Field Office, at the address listed above, during regular business hours (7:45 a.m. to 4:30 p.m.), Monday through Friday, except Federal holidays. Individual respondents may request confidentiality. If you wish to withhold your name or street address or both from public review or from disclosure under the Freedom of Information Act, you must state this prominently at the beginning of your written comments. Such requests will be honored to the extent allowed by law. All submissions from organizations, businesses and individuals identifying themselves as representatives or officials of organizations or businesses, will be made available for public inspection in their entirety.

FOR FURTHER INFORMATION CONTACT: For information on the NEPA aspect of the project, please call Teri Deakins at 307-352-0211. For information on coal leasing, please call Joanna Nara-Kloepper, Project Leader, at 307-352-0321.

SUPPLEMENTARY INFORMATION: On March 24, 2004, BBCC filed an LBA with the BLM, to access Federal coal reserves adjacent to their existing Black Butte Mine in Sweetwater County, Wyoming. The LBA tract is approximately 28 miles southeast of Rock Springs, Wyoming, and comprises the following public lands:

T. 17 N., R. 101 W., 6th PM, Wyoming

sec. 2: Lots 3, 4, SW¼NW¼;

sec. 4: Lots 1, 2, S½NE¼, SE¼NW¼, NE¼SW¼, S½SW¼, SE¼;

sec. 10: NW¼, N½SW¼;

T. 18 N., R. 101 W., 6th PM, Wyoming

sec. 34: E½, E½NW¼, SW¼.

Containing 1,399.48 acres, more or less.

The Black Butte Coal Mine started operations in the late 1970s and continues to operate today. Additional mineable coal reserves are needed to meet the growing regional demand for electricity, including electricity supplied by the Jim Bridger Power Plant. BBCC estimates that approximately 34.6 million tons of in-place coal reserves are present in the Upper Cretaceous Almond Formation within the project area.

The Office of Surface Mining Reclamation Enforcement (OSMRE) is a cooperating agency in the preparation of this Environmental Impact Statement (EIS). If the tract is leased as a maintenance tract, the new lease must be incorporated into the existing mining and reclamation plan for the adjacent mine. The Secretary of the Interior must approve the revision to the Mineral Leasing Act (MLA) mining plan before the Federal coal can be mined. If the tract is leased, OSMRE is the Federal agency that would be responsible for recommending approval, approval with conditions, or disapproval of the revised MLA mining plan to the Secretary of the Interior.

On January 7, 2005, the BLM published its Notice of Intent (NOI) to prepare an EIS for the Pit 14 Coal LBA (WYW160394) in the Federal Register. On March 24, 2006, both the BLM and the EPA published NOAs of the Draft Environmental Impact Statement (DEIS) for the Pit 14 Coal LBA project for a 60-day comment and review period. Under the provisions of Federal coal regulations at 43 Code of Federal Regulations (CFR) 3425.4, a public hearing was held at 2 p.m. on May 10, 2006, at the BLM Rock Springs Field Office, Rock Springs, WY. The purpose of the hearing was to solicit comments on the DEIS, fair market value, and the maximum economic recovery of the Federal coal. Seven comment letters on the DEIS were received during the review and comment period, and two statements were recorded during the public coal hearing (of which one statement was subsequently submitted as a comment letter).

The FEIS analyzes two alternatives in detail:

1. The Proposed Action. This alternative analyzes the impacts of leasing Federal coal and the impacts associated with surface mining.

2. The No Action Alternative. This alternative would reject the coal lease application as submitted.

BLM's preferred alternative is the Proposed Action. The Proposed Action is in conformance with the Green River Resource Management Plan (1997).

A Record of Decision (ROD) will be prepared after the close of the comment period for the FEIS. Comments received on the FEIS will be considered during preparation of the ROD.

Dated: September 22, 2006.
Robert A. Bennett,
State Director.

[FR Doc. E6-20045 Filed 11-27-06; 8:45 am]

BILLING CODE 4310-22-P